DEPARTMENT OF TRANSPORTATION

Federal Aviation Administration

14 CFR Part 39

[Docket No. FAA-2013-0742; Directorate Identifier 2013-CE-012-AD]

RIN 2120-AA64

Airworthiness Directives; Piper Aircraft, Inc.

AGENCY: Federal Aviation Administration (FAA), DOT.

ACTION: Proposed rule; withdrawal.

SUMMARY: This document withdraws a notice of proposed rulemaking (NPRM) that would have applied to certain Piper Aircraft, Inc. Models PA-28-140, PA-28-150, PA-28-160, PA-28-180, PA-28R-180, and PA-28R-200 airplanes. The proposed airworthiness directive (AD) would have superseded AD 71-21-08, Amendment 39-1312, which currently requires replacement of the fuel selector valve cover. This proposed AD would have added additional airplanes to the AD's applicability section and changed the compliance time of the required actions. Since issuance of the NPRM, the FAA has re-evaluated this airworthiness concern and determined that an unsafe condition does not exist that would warrant AD action. This withdrawal does not prevent the FAA from initiating future rulemaking on this subject.

DATES: As of June 27, 2014, the proposed rule published August 20, 2013 (78 FR 51121), is withdrawn.

FOR FURTHER INFORMATION CONTACT: Gary Wechsler, Aerospace Engineer, Atlanta Aircraft Certification Office, FAA, 1701 Columbia Avenue, College Park, Georgia 30337; telephone: (404) 474-5575; fax: (404) 474-5606; email: gary.wechsler@faa.gov.

SUPPLEMENTARY INFORMATION:

Discussion

We issued a notice of proposed rulemaking (NPRM) to amend 14 CFR part 39 to include an AD that would apply to Piper Aircraft, Inc. Models PA-28-140, PA-28-150, PA-28-160, PA-28-180, PA-28R-180, and PA-28R-200 airplanes. That NPRM published in the Federal Register on August 20, 2013 (78 FR 51121). That NPRM proposed to supersede AD 71-21-08, Amendment 39-1312 (36 FR 19572, October 8, 1971), by adding airplanes to and changing the compliance time of AD 71-21-08 fuel selector valve cover replacement requirements.

Because of the comments received on the NPRM (78 FR 51121, August 20, 2013), the FAA re-evaluated the data collected on the safety concern and concluded that:

• There was evidence of pilot inexperience and an absence of fuel selector valve maintenance (in accordance with Piper Service Bulletin 355, dated June 5, 1972) in the Piper PA-28-180 crash of December 28, 2011; and

• The low frequency of PA-28 series safety events due to the inadvertent selection of the “OFF” position of fuel selector valves, since AD 71-21-08 was published on October 13, 1971, does not warrant AD action.

To mitigate the safety concern from recurring, the FAA may take other airworthiness action such as a special airworthiness information bulletin (SAIB) to recommend the actions contained in the proposed rule and capture the concerns identified by the public during the NPRM (78 FR 51121, August 20, 2013) comment period.

Withdrawal of this NPRM (78 FR 51121, August 20, 2013) constitutes only such action and does not preclude the agency from issuing future rulemaking on this issue, nor does it commit the agency to any course of action in the future.

Regulatory Findings

Since this action only withdraws an NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (NPRM), FAA-2013-0742, published in the Federal Register on August 20, 2013 (78 FR 51121), is withdrawn.

Issued in Kansas City, Missouri, on June 19, 2014.
Timothy Smyth,
Acting Manager, Small Airplane Directorate, Aircraft Certification Service.

[FR Doc. 2014-15139 Filed 6-26-14; 8:45 am]

BILLING CODE 4910-13-P